DEPARTMENT OF COMMERCE

National Oceanic and Atmospheric Administration

[I.D. 101002B]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Whiting Oversight Committee and Advisory Panel in November, 2002. Recommendations from the committee will be brought to the full Council for formal consideration and action, if appropriate.

DATES: The meeting will held on Monday, November 4, 2002 at 9:30 a.m.

ADDRESSES: The meeting will be held at the Sheraton Ferncroft, 50 Ferncroft Road, Danvers, MA 01923; telephone: (978) 465-0492.

Council address:New England Fishery Management Council, 50 Water Street, Newburyport, MA 01950.

FOR FURTHER INFORMATION CONTACT: Paul J. Howard, Executive Director, New England Fishery Management Council (978) 465-0492.

SUPPLEMENTARY INFORMATION: The committee and panel will review information and analyses included in Framework 37 to the Northeast Multispecies Fishery Management Plan (FMP). They will provide recommendations for Council consideration for final selection of management measures to be included in Framework 37; measures in Framework 37 may eliminate the Year 4 default measure in both whiting stock areas, increase opportunities for whiting fishing in the Cultivator Shoal Whiting Fishery and other fisheries in the northern stock area, and adjust other whiting management measures. They will also consider a new control date for small mesh multispecies (whiting, red hake, offshore hake) and development of related recommendations for Council consideration.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: October 11, 2002.
Richard W. Surdi,
Acting Director, Office of Sustainable Fisheries, National Marine Fisheries Service.

[FR Doc. 02-26598 Filed 10-17-02; 8:45 am]

BILLING CODE 3510-22-S